DEPARTMENT OF TRANSPORTATION

Federal Aviation Administration

14 CFR Part 71

[Docket No. FAA-2004-18013; Airspace Docket No. 04-ACE-42]

Modification of Class E Airspace; Columbus, NE

AGENCY: Federal Aviation Administration (FAA), DOT.

ACTION: Direct final rule; request for comments; correction.

SUMMARY: This action corrects a direct final rule; request for comments that was published in the Federal Register on Friday, July 2, 2004, (69 FR 40310) [FR Doc. 04-15115]. It corrects an error in the legal description of the Class E airspace area extending upward from 700 feet above the surface at Columbus, NE.

DATES: This direct final rule is effective on 0901 UTC, September 30, 2004.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

Federal Register Document 04-15115, published on Friday, July 2, 2004, (69 FR 40310) modified the Class E surface area and the Class E airspace area extending upward from 700 feet above the surface at Columbus, NE. The modification corrected discrepancies in the dimensions of controlled airspace for diverse departures from Columbus Municipal Airport by expanding the areas. The modification also corrected discrepancies in the Columbus Municipal Airport airport reference point used in the legal descriptions, redefined extensions to the airspace areas and brought the legal descriptions of the Columbus, NE Class E airspace area into compliance with FAA Orders 7400.2E, Procedures for Handling Airspace Matters, and 8260.19C, Flight Procedures and Airspace. However, that portion of the legal description for the Class E airspace area extending upward from 700 fee above the surface defining the northwest extension was incorrect.

Accordingly, pursuant to the authority delegated to me, the legal description of Columbus, NE Class E airspace, as published in the Federal Register on Friday, July 2, 2004, (69 FR 40310) [FR Doc. 04-15115] is corrected as follows:

§ 71.1 [Corrected]

On page 40312, Column 1, first paragraph, third line from the bottom, change “4.7-mile” to read “7.7-mile.”

Issued in Kansas City, MO, on July 13, 2004.
Paul J. Sheridan,
Acting Manager, Air Traffic Division, Central Region.

[FR Doc. 04-17828 Filed 8-4-04; 8:45 am]

BILLING CODE 4910-13-M